ENVIRONMENTAL PROTECTION AGENCY

[EPA-HQ-OW-2018-0594; FRL-9985-17-OW]

Request for Nominations of Drinking Water Contaminants for the Fifth Contaminant Candidate List

AGENCY: Environmental Protection Agency (EPA).

ACTION: Notice.

SUMMARY: The Environmental Protection Agency (EPA) is requesting nominations of chemical and microbial contaminants that are not currently regulated, for possible inclusion on the fifth drinking water Contaminant Candidate List. The EPA requests that nominations include information showing the nominated contaminant is known or anticipated to occur in public water systems and indicating the nominated contaminant may require regulation due to the potential for adverse effects on the health of persons.

DATES: Nominations must be received on or before December 4, 2018.

ADDRESSES: Submit your comments, identified by Docket ID No. EPA-HQ-OW-2018-0594, to the Federal eRulemaking Portal: http://www.regulations.gov. Follow the online instructions for submitting comments. You may also submit comments by mail or hand delivery to: Water Docket, Environmental Protection Agency, Mail Code: 2822T, 1200 Pennsylvania Ave. NW, Washington, DC 20460.

Once submitted, comments cannot be edited or withdrawn. The EPA may publish any comment received to its public docket. Do not submit electronically any information you consider to be Confidential Business Information (CBI) or other information whose disclosure is restricted by statute. Multimedia submissions (audio, video, etc.) must be accompanied by a written comment. The written comment is considered the official comment and should include discussion of all points you wish to make. The EPA will generally not consider comments or comment contents located outside of the primary submission (i.e., on the web, cloud, or other file sharing system). For additional submission methods, the full EPA public comment policy, information about CBI or multimedia submissions, and general guidance on making effective comments, please visit http://www.epa.gov/dockets/commenting-epa-dockets. More information about comment submissions and CBI specific to the nomination process is included in Section III of this notice.

FOR FURTHER INFORMATION CONTACT: For questions about this notice and/or inquiries regarding the EPA's fifth drinking water Contaminant Candidate List (CCL 5) nominations, please contact Kesha Forrest, Standards and Risk Management Division, Office of Ground Water and Drinking Water, Environmental Protection Agency, 1200 Pennsylvania Ave. NW, Washington, DC 20460; telephone number: (202) 564-3632; email address: forrest.kesha@epa.gov.

SUPPLEMENTARY INFORMATION:

I. General Information

A. Does this action apply to me?

This notice does not impose any requirements on anyone; it only requests nominations for the drinking water Contaminant Candidate List (CCL) and provides information on how the public can submit nominations to the EPA.

B. How can I get copies of this document and other related information?

The EPA has established a docket for this action under Docket ID No. EPA-HQ-OW-2018-0594. Publicly available docket materials are accessible either electronically through http://www.regulations.gov or in hard copy at the Water Docket in the EPA Docket Center (see the ADDRESSES section of this notice).

II. Background

A. What is the CCL?

The CCL is a list of contaminants that are currently not subject to any proposed or promulgated national primary drinking water regulations, that are known or anticipated to occur in public water systems, and which may require regulation under the Safe Drinking Water Act (SDWA). The EPA uses this list of unregulated contaminants to prioritize research and data collection efforts to help the Agency determine whether to regulate a specific contaminant. The SDWA requires that the EPA publish the CCL every five years (SWDA § 1412(b)(1)). The EPA is also required to consult with the scientific community, including the Science Advisory Board, and provide notice and opportunity for public comment prior to publication of the final CCL.

The SDWA also requires the EPA to determine whether to regulate at least five contaminants from the CCL every five years (SWDA § 1412(b)(1)). To regulate a contaminant, the SDWA specifies the EPA must determine that:

1. The contaminant may have an adverse effect on the health of persons;

2. The contaminant is known to occur, or there is a substantial likelihood that the contaminant will occur, in public water systems with a frequency and at levels of public health concern; and

3. In the sole judgment of the Administrator, regulation of such contaminant presents meaningful opportunity for health risk reduction for persons served by public water systems.

B. What contaminants were listed on the previous Contaminant Candidate List?

The fourth CCL (CCL 4) was published on November 17, 2016 (81 FR 81099). CCL 4 included 97 chemicals or chemical groups and 12 microbial contaminants. The list includes, among others, chemicals used in commerce, pesticides, biological toxins, disinfection byproducts, pharmaceuticals, and waterborne pathogens. The list of contaminants included on CCL 4, and other information regarding the CCL, can be found on the internet at https://www.epa.gov/ccl and in the Federal Register notice for the final CCL 4 (81 FR 81099, November 17, 2016).

C. Why is the EPA soliciting contaminant nominations?

The EPA is conducting an evaluation of potential contaminants for inclusion on the draft CCL 5. The EPA is requesting public nominations for contaminants that are not currently regulated, to ensure that contaminants that may not be typically identified as part of the EPA's CCL process are considered. The National Academy of Sciences (NAS, 2001) and National Drinking Water Advisory Council (NDWAC, 2004) recommended to the EPA that the CCL be a data-driven, step-wise approach to classifying contaminants. These experts also recognized the importance of providing an additional pathway for the public to identify new and emerging contaminants for the EPA to further evaluate. A public nomination process allows the EPA to consider new and emerging contaminants that might not otherwise be considered because new information may exist that the EPA is unaware of and/or the information may not have been widely reported or recorded.

III. The EPA CCL Nomination Process

This contaminant nomination process is the first opportunity for the public to make nominations for contaminants to be considered for the CCL 5. The EPA will also accept nominations during the notice and comment period following the EPA's publication of the draft CCL 5 in the Federal Register.

A. How can stakeholders, agencies, industry, and the public nominate contaminants for the CCL 5?

Interested parties can nominate chemicals, microbes, or other materials for consideration on the CCL 5 by sending information electronically through http://www.regulations.gov, by mail, or by hand delivery (see the ADDRESSES section of this notice). Do not submit confidential business information (CBI) to the EPA through http://www.regulations.gov or email. Submit comments that contain CBI only by mail or hand delivery, and clearly mark the part of or all the information that you claim to be CBI. In addition to one complete version of the comment that includes information claimed as CBI, a non-CBI copy of the comment that does not contain the information claimed as CBI must be submitted for inclusion in the public docket. Information so marked will not be disclosed except in accordance with procedures set forth in the Code of Federal Regulations at 40 CFR part 2.

When submitting a nomination, it is preferred that the nominators include a name, affiliation, phone number, mailing address, and email address; however, this information is not required and nominations can be submitted anonymously. The nominator should also address the following questions for each contaminant nominated to the CCL:

1. What is the contaminant's name, CAS number, and/or common synonym (if applicable)? Please do not nominate a contaminant that is already subject to a national primary drinking water regulation.

2. What are the data that you believe support the conclusion that the contaminant is known or anticipated to occur in public water systems? For example, provide information that shows measured occurrence of the contaminant in drinking water or measured occurrence in sources of drinking water or provide information that shows the contaminant is released in the environment or is manufactured in large quantities and has a potential for contaminating sources of drinking water. Please provide the source of this information with complete citations for published information (i.e., author(s), title, journal, and date) or contact information for the primary investigator.

3. What are the data that you believe support the conclusion that the contaminant may require regulation? For example, provide information that shows the contaminant may have an adverse health effect on the general population or that the contaminant is potentially harmful to subgroups that comprise a meaningful portion of the population (such as children, pregnant women, the elderly, individuals with a history of serious illness, or others). Please provide the source of this information with complete citations for published information (i.e., author(s), title, journal, and date) or contact information for the primary investigator.

B. How do I submit nominations in hard copy?

You may submit nominations by mail or hand delivery. To allow full consideration of your nomination, please ensure that your nominations are received or postmarked by midnight December 4, 2018. The address for submittal of nominations by mail or hand delivery is listed in the ADDRESSES section of this document.

C. What will happen to my nominations after I submit them?

The EPA will evaluate the information available for the nominated contaminants to determine the appropriateness of inclusion on the CCL 5. The EPA does not intend to respond to the nominations directly or individually. The EPA will summarize the nominations received when the draft CCL 5 list is published in the Federal Register.

IV. References

Copies of these documents are found at http://www.regulations.gov, Docket ID No. EPA-HQ-OW-2018-0594.

NAS 2001. National Academy of Sciences, National Research Council. 2001. Classifying Drinking Water Contaminants for Regulatory Consideration. National Academy Press. Washington, DC. Available at http://books.nap.edu/books/0309074088/html/index.html.

NDWAC 2004. National Drinking Water Advisory Council. National Drinking Water Advisory Council Report on the CCL Classification Process to the U.S. Environmental Protection Agency, May 18, 2004. Available at https://www.epa.gov/ccl/national-drinking-water-advisory-council-report-ccl-classification-process.

Dated: September 27, 2018.
David P. Ross,
Assistant Administrator, Office of Water.

[FR Doc. 2018-21748 Filed 10-4-18; 8:45 am]

BILLING CODE 6560-50-P